ENVIRONMENTAL PROTECTION AGENCY

40 CFR Part 52

[CA-274-0371; FRL-7473-3]

Approval and Promulgation of State Implementation Plans; California—South Coast

AGENCY: Environmental Protection Agency (EPA).

ACTION: Final rule.

SUMMARY: EPA is taking final action to approve state implementation plan (SIP) revisions submitted by the State of California to provide for attainment of the particulate matter (PM-10) national ambient air quality standards (NAAQS) in the Los Angeles-South Coast Air Basin Area and to establish emissions budgets for purposes of transportation conformity. EPA is also granting the State's request for an extension of the PM-10 attainment deadline to December 31, 2006.

EFFECTIVE DATE: This rule is effective on May 19, 2003.

ADDRESSES: You can inspect copies of the docket for this action during normal business hours at EPA's Region IX office. You can inspect copies of the submitted SIP materials at the following locations:

U.S. EPA, Region IX, 75 Hawthorne Street, San Francisco, CA 94105-3901.

California Air Resources Board, 1001 I Street, Sacramento, California, 95812.

South Coast Air Quality Management District, 21865 E. Copley Drive, Diamond Bar, California, 91765-0932.

Most of the plan materials are also electronically available at: http://www.aqmd.gov/aqmp/.

FOR FURTHER INFORMATION CONTACT: Dave Jesson, EPA Region IX, (415) 972-3957, or jesson.david@epa.gov.

SUPPLEMENTARY INFORMATION: Throughout this document, “we,” “us,” and “our” refer to EPA.

I. Proposed Action

On December 17, 2002 (67 FR 77212), we proposed to approve the serious area PM-10 SIP submittals by California for the South Coast Air Basin (or “South Coast”), including the motor vehicle emissions budgets, and to grant the State's request that we extend the attainment date from December 31, 2001 to December 31, 2006, in accordance with Clean Air Act (CAA) section 188(e).

Our proposed approval was based on the following SIP submittals by the State of California:

(1) That portion of the 1994 Air Quality Management Plan (AQMP, or “1994 plan”), adopted by the South Coast Air Quality Management District (SCAQMD) on September 9, 1994, and submitted by the California Air Resources Board (CARB) on November 15, 1994, that addresses the CAA provisions on control measures and best available control measure (BACM);

(2) the 1997 AQMP (“1997 plan”) adopted by the SCAQMD on November 15, 1996, and submitted by CARB on February 5, 1997, addressing the CAA provisions for emissions inventories, control measures and BACM, reasonable further progress, contingency measures, attainment demonstration, motor vehicle emissions budgets, and attainment date extension;

(3) the 1998 amendment to the 1997 plan (“1998 amendment”), adopted by the SCAQMD on April 10, 1998, and submitted by CARB on April 22, 1998, establishing motor vehicle emission budgets;

(4) the 1999 amendment to the 1997 plan (“1999 amendment”), adopted by the SCAQMD on December 10, 1999, and submitted by CARB on February 4, 2000, addressing the CAA provisions for control measures and BACM; and

(5) the 2002 status report adopted by SCAQMD on June 7, 2002, and submitted by CARB on November 18, 2002, addressing the CAA provisions for control measures and BACM, reasonable further progress, and motor vehicle emissions budgets for purposes of transportation conformity.

The proposal contains detailed information on these SIP submittals and our evaluation of the submittals against applicable CAA provisions and EPA policies relating to serious area PM-10 SIPs.

II. Public Comments

We received one public comment from an individual asking that EPA specify the statutes relied upon to grant an extension of time to attain the NAAQS. The commenter further asked EPA to take a second look at policies to extend attainment dates if adequate legal authority does not exist.

As discussed in our proposed rule (67 FR 77217), CAA section 188(e) allows states to apply for up to a 5-year extension of the PM-10 serious area attainment deadline of December 31, 2001. CAA section 188(e) provides us with explicit authority to grant the extension if the state makes a showing that: (1) The plan for the area includes the most stringent measures that are included in the SIP of any state or are achieved in practice in any state, and can feasibly be implemented in the area, (2) the state complied with all requirements and commitments pertaining to the area in the implementation plan for the area, and (3) attainment by 2001 would be impracticable. In the proposed action, we show how the State's submittals satisfy each of these criteria. The commenter provided no evidence that the prerequisites to approval of the extension had not been satisfied. We continue to conclude that the State has met the applicable statutory provisions and we are therefore finalizing our attainment date extension.

Under our policy for reviewing the adequacy of motor vehicle emissions budget submissions, these budgets were posted on our transportation conformity Web site (http://www.epa.gov/oms/traq) for public comment. We received no comments on the budgets.

III. EPA Action

In this document, we are finalizing the following actions on the PM-10 SIP submittals for the South Coast. For each action, we indicate the page on which the element is discussed in our proposal.

(1) Approval of the baseline and projected emissions inventories of the 1997 plan (Appendix III and Appendix V, Chapter 2) under CAA section 172(c)(3)—67 FR 77214-5.

(2) Approval of the control measures in the 1997 plan (Chapter 4, Appendix IV-A), 1999 amendment (Appendix B), and 2002 status report (Attachment D), under CAA section 110(k)(3) as meeting the provisions of CAA sections 110(a), 188(e), and 189(b)(1)(B)—67 FR 77215 (Table 1).

(3) Approval of the contingency measures in the 1997 plan (Appendix IV-A), under CAA section 110(k)(3) as meeting the provisions of CAA section 172(c)(9)—67 FR 77216.

(4) Approval of the reasonable further progress provisions of the 1997 plan (Chapters 4 and 6; Appendix III; Appendix V, Chapter 2) and 2002 status report under CAA section 189(c)—67 FR 77216-7 (Table 2).

(5) Approval of the demonstration of attainment in the 1997 plan (Chapter 5, Appendix V) under CAA section 189(b)(1)(A)—67 FR 77217.

(6) Approval of the attainment deadline extension to December 31, 2006 in the 1997 plan (Chapters 5 and 6; Appendix V, Chapter 2), under CAA section 188(e)—67 FR 77217-8.

(7) Approval of the motor vehicle emission budgets for purposes of transportation conformity for 2003, 2006, 2010, and 2020, under CAA section 176(c)(2)(A)—67 FR 77218-9 (Table 3). As proposed, we are limiting this approval to last only until the effective date of our adequacy findings for new replacement budgets. For further discussion of the rationale for, and effect of, this limitation, please see our recent promulgation of a limitation on motor vehicle emission budgets associated with various California SIPs, at 67 FR 69139 (November 15, 2002).

IV. Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by June 17, 2003. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter, Reporting and recordkeeping requirements.

Dated: February 27, 2003.
Alexis Strauss,
Acting Regional Administrator, Region IX.

Part 52, chapter I, title 40 of the Code of Federal Regulations is amended as follows:

PART 52—[AMENDED]

1. The authority citation for part 52 continues to read as follows:

Authority: 42 U.S.C. 7401 et seq.

Subpart F—California

2. Section 52.220 is amended by adding paragraphs (c)(247)(i)(A)(4), (c)(272)(i)(A)(2), and (c)(309)to read as follows:

§ 52.220 Identification of plan.

* * * * *

(c) * * *

(247) * * *

(i) * * *

(A) * * *

(4) Baseline and projected emissions inventories, SCAQMD commitment to adopt and implement control measures, reasonable further progress, contingency measures, attainment demonstration, PM-10 attainment date extension request to December 31, 2006, as contained in the South Coast 1997 Air Quality Management Plan, with respect to PM-10.

* * * * *

(272) * * *

(i) * * *

(A) * * *

(2) SCAQMD commitment to adopt and implement control measures, as contained in the 1999 Amendment to the South Coast Air Quality Management Plan, with respect to PM-10.

* * * * *

(309) New and amended plan for the following agency was submitted on November 18, 2002, by the Governor's designee.

(i) Incorporation by reference.

(A) South Coast Air Quality Management District (SCAQMD).

(1) SCAQMD commitment to adopt and implement control measures, and reasonable further progress, as contained in the Implementation Status of the PM-10 Portion of the 1997 AQMP and PM-10 Emissions Budgets for Transportation Conformity use (2002 status report) adopted by SCAQMD on June 7, 2002.

* * * * *

3. Section 52.244 is amended by adding paragraph (e) to read as follows:

§ 52.244 Motor vehicle emissions budgets.

* * * * *

(e) Approval of the motor vehicle emissions budgets for the following PM-10 reasonable further progress and attainment SIPs will apply for transportation conformity purposes only until new budgets based on updated planning data and models have been submitted and EPA has found the budgets to be adequate for conformity purposes.

(1) South Coast, approved April 18, 2003.

[FR Doc. 03-9478 Filed 4-17-03; 8:45 am]

BILLING CODE 6560-50-P